FEDERAL HOUSING FINANCE BOARD

12 CFR Parts 910 and 913

[No. 2006-25]

RIN 3069-AB32

Privacy Act and Freedom of Information Act; Implementation

AGENCY: Federal Housing Finance Board.

ACTION: Final rule.

SUMMARY: The Federal Housing Finance Board (Finance Board) is adopting as a final rule the interim final rule that revised the agency's implementing regulation under the Privacy Act of 1974 (Privacy Act) to include new sections concerning security of systems of records, use and collection of social security numbers, and employee responsibilities under the Privacy Act. The rule also amended the fee schedule in the Freedom of Information Act (FOIA) regulation, which the Finance Board uses to determine the amount of the fee it charges to duplicate records under both the FOIA and the Privacy Act, to take into account increased salary and operating costs.

DATES: The final rule will become effective on February 7, 2007.

FOR FURTHER INFORMATION CONTACT: Janice A. Kaye, Privacy Act Official and Senior Attorney-Advisor, Office of General Counsel, kayej@fhfb.gov or 202-408-2505; or David A. Lee, Chief Privacy Officer and Deputy Director, Office of Management, leed@fhfb.gov or 202-408-2514. You can send regular mail to the Federal Housing Finance Board, 1625 Eye Street, NW., Washington DC 20006.

SUPPLEMENTARY INFORMATION:

I. Background

In October 2006, the Finance Board published an interim final rule with request for comments that revised its Privacy Act and FOIA regulations. See 71 FR 60810 (Oct. 17, 2006). The revised Privacy Act regulation (12 CFR part 913) includes new sections concerning security of systems of records, use and collection of social security numbers, and employee responsibilities under the Privacy Act. These amendments were modeled after the U.S. Department of Justice Privacy Act implementing rule, and are intended to enhance the agency's ability to protect personally identifiable information.

The rule also amended the fee schedule in the FOIA regulation (12 CFR 910.9), which the Finance Board uses to determine the amount of the fee it charges to duplicate records under both the FOIA and the Privacy Act, to take into account increased salary and operating costs. The 30-day public comment period for the interim final rule closed on November 16, 2006. See 70 FR at 60811.

II. Analysis of Public Comments and the Final Rule

The Finance Board received no comments in response to the interim final rule. Thus, for the reasons set forth in detail in the interim final rulemaking, the Finance Board is adopting the interim final rule as a final rule without any changes.

III. Regulatory Flexibility Act

The Finance Board adopted the amendments to parts 910 and 913 in the form of an interim final rule and not as a proposed rule. Therefore, the provisions of the Regulatory Flexibility Act do not apply. See 5 U.S.C. 601(2), 603(a).

V. Paperwork Reduction Act

The final rule does not contain any collections of information under the Paperwork Reduction Act of 1995. See 44 U.S.C. 3501 et seq. Consequently, the Finance Board has not submitted any information to the Office of Management and Budget for review.

List of Subjects

12 CFR Part 910

Administrative practice and procedure, Archives and records, Confidential business information, Federal home loan banks, Freedom of information.

12 CFR Part 913

Administrative practice and procedure, Archives and records, Freedom of information, Privacy.

For the reasons stated in the preamble, the Finance Board hereby adopts the interim final rule revising 12 CFR parts 910 and 913 that was published at 71 FR 60810 on October 17, 2006, as a final rule without change.

Dated: December 29, 2006.
By the Federal Housing Finance Board.
Ronald A. Rosenfeld,
Chairman.

[FR Doc. E6-22653 Filed 1-5-07; 8:45 am]

BILLING CODE 6725-01-P